DEPARTMENT OF ENERGY

Idaho Operations Office; University Research for the Geothermal Program

AGENCY: Idaho Operations Office, DOE.

ACTION: Notice of Competitive Financial Assistance Solicitation.

SUMMARY: The U.S. Department of Energy (DOE) Idaho Operations Office (ID) is seeking applications for research projects in earth science at universities to expand the geothermal knowledge base. The knowledge gained from this work will result in new and improved technology that will help meet geothermal program goals. University earth science research and development is sought to enhance exploration tools, increase reservoir productivity, and improve reservoir management. The Program's overarching goal is to reduce the levelized cost of generating geothermal power to 3 to 5 cents/kWh by 2010, as compared to 5 to 8 cents/kWh in 2000.

DATES: The Standard Form 424, and the technical application (20 page maximum), must have an IIPS transmission time stamp of not later than 5 p.m. ET on Thursday, February 28, 2002.

ADDRESSES: Completed applications are required to be submitted via the U.S. Department of Energy Industry Interactive Procurement System (IIPS) at the following URL: http://e-center.doe.gov.

FOR FURTHER INFORMATION CONTACT: Elizabeth Dahl, Contract Specialist at dahlee@id.doe.gov, facsimile at (208) 526-5548, or by telephone at (208) 526-7214.

SUPPLEMENTARY INFORMATION: Approximately $2,000,000 dollars in Federal funds is expected to be available over the next three fiscal years. A maximum of $500,000 dollars is expected to be available in fiscal year 2002 to totally fund the first year of selected research efforts. DOE anticipates awarding three to five grants, each with a duration of three years or less. U.S. institutions of higher education may submit applications in response to this solicitation. National laboratories will not be eligible for an award under this solicitation. Multi-partner collaborations between U.S. universities and U.S. industry are encouraged. Cost share is not required but encouraged. The issuance date of Solicitation Number DE-PS07-02ID14263 is on or about November 29, 2001. The solicitation is available in its full text via the Internet at the following address: http://e-center.doe.gov. The statutory authority for this program is the Department of Energy Organization Act of 1977, Public Law 95-238, Section 207, and Public Law 101-218. The Catalog of Federal Domestic Assistance (CFDA) Number for this program is 81.087, Renewable Energy Research and Development.

Issued in Idaho Falls on November 29, 2001.
R.J. Hoyles,
Director, Procurement Services Division.

[FR Doc. 01-30354 Filed 12-6-01; 8:45 am]

BILLING CODE 6450-01-P